DEPARTMENT OF THE INTERIOR

National Park Service

[NPS-WASO-NAGPRA-NPS0028908; PPWOCRADN0-PCU00RP14.R50000]

Notice of Inventory Completion: U.S. Army Corps of Engineers, Omaha District, Omaha, NE, and South Dakota State Archaeological Research Center, Rapid City, SD

AGENCY: National Park Service, Interior.

ACTION: Notice.

SUMMARY: The U.S. Army Corps of Engineers, Omaha District (USACE, Omaha District) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the USACE, Omaha District. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the USACE, Omaha District at the address in this notice by November 8, 2019.

ADDRESSES: Ms. Sandra Barnum, U.S. Army Corps of Engineers, Omaha District, ATTN: CENWO-PMA-C, 1616 Capital Avenue, Omaha, NE 68102, telephone (402) 995-2674, email sandra.v.barnum@usace.army.mil.

SUPPLEMENTARY INFORMATION: Notice is hereby given in accordance with the Native American Graves Protection and Repatriation Act (NAGPRA), 25 U.S.C. 3003, of the completion of an inventory of human remains and associated funerary objects under the control of the U.S. Army Corps of Engineers, Omaha District, Omaha, NE, and in the physical custody of the South Dakota State Archaeological Research Center, Rapid City, SD. The human remains and associated funerary objects were removed from site 39BR0011 and an unidentified site in Brule County, SD.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the South Dakota State Archaeological Research Center (SARC) and USACE, Omaha District professional staff in consultation with representatives of the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Standing Rock Sioux Tribe of North & South Dakota; Upper Sioux Community, Minnesota; and the Yankton Sioux Tribe of South Dakota (hereafter referred to as “The Tribes”).

History and Description of the Remains

Sometime in the 1950s or 1960s, human remains representing, at minimum, one individual were removed from site 39BR0011 in Brule County, SD. The site was excavated in 1953, 1954, and 1965 by the Smithsonian Institution, and either during these excavations or shortly thereafter illegal excavations occurred onsite. At that time, a neighbor gifted a box containing human remains and artifacts he had collected from the site to a Mr. Thompson. In May 2000, Mr. Thompson donated the box to the Siouxland Heritage Museum. The Museum then contacted SARC and the U.S. Army Corps of Engineers about the human remains. The U.S. Army Corps of Engineers accepted the human remains and had them transferred to SARC on November 3, 2001. Based on the wide temporal and geographic span represented by the artifacts, it was determined that the artifacts and the human remains (a cranial fragment) in the box were not likely associated. No known individuals were identified.

Sometime prior to 1979, human remains representing, at minimum, one individual were removed from an unidentified site in Brule County, SD. In all, human remains and soil samples from two burials were collected by Robert Gant, and were kept at the W.H. Over Museum until the end of the 1979 field season. The human remains and soil samples were then transferred to the University of Tennessee for analysis, where they remained until 1988, at which time they were transferred back to South Dakota. The human remains were reburied in Stanley County at site 39ST15. The soil samples were sent to SARC in January 1988. In February 2002, one of the soil samples was water screened, and multiple human bone fragments were collected. No known individuals were identified. The two associated funerary objects are two soil samples.

Determinations Made by the U.S. Army Corps of Engineers, Omaha District

Officials of the U.S. Army Corps of Engineers, Omaha District have determined that:

• Pursuant to 25 U.S.C. 3001(9), the human remains described in this notice are Native American based on archeological context.

• Pursuant to 25 U.S.C. 3001(9), the human remains described in this notice represent the physical remains of two individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission, the land from which the Native American human remains and associated funerary objects were removed is the aboriginal land of the Yankton Sioux Tribe of South Dakota.

• Treaties indicate that the land from which the Native American human remains and associated funerary objects were removed is the aboriginal land of the Yankton Sioux Tribe of South Dakota. Executive Orders indicate that the land from which the Native American human remains and associated funerary objects were removed is the aboriginal land of the Sioux, represented today by The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Ms. Sandra Barnum, U.S. Army Corps of Engineers, Omaha District, ATTN: CENWO-PMA-C, 1616 Capitol Avenue, Omaha, NE 68102, telephone (402) 995-2674, email sandra.v.barnum@usace.army.mil, by November 8, 2019. After that date, if no additional requestors have come forward, transfer of control of the human remains and associated funerary objects to The Tribes may proceed.

The U.S. Army Corps of Engineers, Omaha District is responsible for notifying The Tribes that this notice has been published.

Dated: September 13, 2019.
Melanie O'Brien,
Manager, National NAGPRA Program.

[FR Doc. 2019-22048 Filed 10-8-19; 8:45 am]

BILLING CODE 4312-52-P